DEPARTMENT OF LABOR

Mine Safety and Health Administration

Petitions for Modification

The petition for modification notice published in the Federal Register on December 28, 2005 (70 FR 76892) for the R S & W Coal Company, Drift Mine, docket number M-2005-079-C, had the wrong MSHA I.D. Number. The correct MSHA I.D. Number is 36-01818.

The following parties have filed petitions to modify the application of existing safety standards under section 101(c) of the Federal Mine Safety and Health Act of 1977.

1. Anthracite Underground Rescue, Inc.

[Docket No. M-2005-085-C]

Anthracite Underground Rescue, Inc., 44 Crescent Street, Tremont, Pennsylvania 17981 has filed a petition to modify the application of 30 CFR 49.6(a)(1) & (5) (Equipment and maintenance requirements) for the following Anthracite Underground Mines in District 1: Alfred Brown Coal Company, 7 FT Slope Mine (MSHA I.D. No. 36-08893) located in Schuylkill County, Pennsylvania; B & B Rockridge Slope, Rockridge No. 1 Slope Mine (MSHA I.D. No. 36-07741) located in Schuylkill County, Pennsylvania; Chestnut Coal Company, No. 10 Slope Mine (MSHA I.D. No. 36-07059) located in Northumberland County, Pennsylvania; D & D Coal Company, Primrose Slope Mine (MSHA I.D. No. 36-08341) located in Schuylkill County, Pennsylvania; F.K.Z Coal Company, No. 1 Slope Mine (MSHA I.D. No. 36-08637) located in Northumberland County, Pennsylvania; Joliett Coal Company, #3 Vein Slope Mine (MSHA I.D. No. 36-08702) located in Schuylkill County, Pennsylvania; Little Buck Coal Company, No. 2 Slope Mine (MSHA I.D. No. 36-08299) located in Schuylkill County, Pennsylvania; R & D Coal Company, R & D Coal Co., Inc. Mine (MSHA I.D. No. 36-02053) located in Schuylkill County, Pennsylvania; R S & W Coal Co., Inc., R S & W Drift Mine (MSHA I.D. No. 36-01818) located in Schuylkill County, Pennsylvania; Orchard Coal Company, Orchard Slope Mine (MSHA I.D. No. 36-08346) located in Schuylkill County, Pennsylvania; Snyder Coal Company, N & L Slope Mine (MSHA I.D. No. 36-02203) located in Northumberland County, Pennsylvania; Snyder Coal Company, Rock Slope #1 Mine (MSHA I.D. No. 36-09256) located in Northumberland County, Pennsylvania; Tito Coal Company, Whites Vein Slope Mine (MSHA I.D. No. 36-06815) located in Schuylkill County, Pennsylvania; UAE Coalcorp Association, Harmony Mine (MSHA I.D. No. 36-07838) located in Northumberland County, Pennsylvania; S & M Coal Company, Buck Mountain Slope Mine (MSHA I.D. No. 36-02022) located in Dauphin County, Pennsylvania; R & R Coal Company, R & R Coal Company Mine (MSHA I.D. No. 36-08498) located in Schuylkill County, Pennsylvania; Six M Coal Company, No. 1 Slope Mine (MSHA I.D. No. 36-09138) located in Dauphin County, Pennsylvania; Bear Gap Coal Company, Bear Gap Coal Company #6 Slope Mine (MSHA I.D. No. 36-09296) located in Dauphin County, Pennsylvania. The petitioner requests a modification of the existing standard to permit the reduction of twelve self-contained oxygen breathing apparatus to eight self-contained breathing apparatus, and the reduction of twelve permissible cap lamps and charging rack to eight permissible cap lamps and charging rack. The petitioner states that reduction of two rescue teams with five members and one alternate to two rescue teams of three members with one alternative has been granted to all operating anthracite coal mines. The petitioner asserts that eight self-contained breathing apparatus and eight permissible cap lamps are sufficient to supply the seven members of the rescue team, and that the proposed alternate method of compliance will not alter, change, or reduce the ability, effectiveness, or safety of the underground mine personnel.

2. Bear Gap Coal Company

[Docket No. M-2005-086-C]

Bear Gap Coal Company, Box 64 Kushwa Road, Spring Glen, Pennsylvania 17978 has filed a petition to modify the application of 30 CFR 49.2(b) (Availability of mine rescue teams) to its Bear Gap Coal Company #6 Slope Mine (MSHA I.D. No. 36-09296) located in Dauphin County, Pennsylvania. The petitioner requests a modification of the existing standard to permit the reduction of two mine rescue teams with five members and one alternate each to two mine rescue teams of three members with one alternate for either team. The petitioner asserts that application of the existing standard will result in a diminution of safety to the miners, and that the proposed alternative method would provide at least the same measure of protection as the existing standard.

3. Oxbow Mining, LLC

[Docket No. M-2006-001-C]

Oxbow Mining, LLC, P.O. Box 535, 3737 Highway 133, Somerset, Colorado 81434 has filed a petition to modify the application of 30 CFR 75.1726(a) (Performing work from a raised position; safeguards) to its Elk Creek Mine (MSHA I.D. No. 05-04674) located in Gunnison County, Colorado. The petitioner proposes to modify existing scoops for use as mobile work platforms and implement operational restrictions to safeguard miners working from the raised platform. The petitioner states that this petition will apply only to Wagner ST3.5 Scoops, Serial Nos. SA04C0228, Company ID No. 24-25 and SA 04P0292, Company ID No. 24-26. The petitioner has listed in this petition specific terms and conditions that will be used when the proposed alternative is implemented. The petitioner asserts that the proposed alternative method would provide at least the same measure of protection as the existing standard.

4. Twentymile Coal Company

[Docket No. M-2006-002-C]

Twentymile Coal Company, 29515 Routt County Road #27, Oak Creek, Colorado 80467 has filed a petition to modify the application of 30 CFR 75.500(d) (Permissible electric equipment) to its Foidel Creek Mine (MSHA I.D. No. 05-03836) located in Routt County, Colorado. The petitioner requests a modification of the existing standard to permit an alternative method of compliance to use battery-powered non-permissible hand-held computers in or inby the last open crosscut, including in the return airways, to allow supervisors and selected miners to collect and record data pertinent to safety observations during work processes. The petitioner states that the recorded data in the hand-held computers will be downloaded at the end of the shift and collated with other data to allow the petitioner to proactively correct unsafe practices and to prevent accidents before they occur. The petitioner has listed in this petition specific terms and conditions that will be used when the proposed alternative method is implemented. The petitioner asserts that the proposed alternative method would provide at least the same measure of protection as the existing standard.

5. Twentymile Coal Company

[Docket No. M-2006-003-C]

Twentymile Coal Company, 29515 Routt County Road #27, Oak Creek, Colorado 80467 has filed a petition to modify the application of 30 CFR 75.1002(a) (Installation of electric equipment and conductors; permissibility) to its Foidel Creek Mine (MSHA I.D. No. 05-03836) located in Routt County, Colorado. The petitioner requests a modification of the existing standard to permit an alternative method of compliance to use battery-powered non-permissible hand-held computers in or inby the last open crosscut, including in the return airways, to allow supervisors and selected miners to collect and record data pertinent to safety observations during work processes. The petitioner states that the recorded data in the hand-held computers will be downloaded at the end of the shift and collated with other data to allow the petitioner to proactively correct unsafe practices and to prevent accidents before they occur. The petitioner has listed in this petition specific terms and conditions that will be used when the proposed alternative method is implemented. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before February 23, 2006. Copies of these petitions are available for inspection at that address.

Dated at Arlington, Virginia this 18th day of January 2006.
Robert F. Stone,
Acting Director, Office of Standards, Regulations, and Variances.

[FR Doc. E6-828 Filed 1-23-06; 8:45 am]

BILLING CODE 4510-43-P